FEDERAL COMMUNICATIONS COMMISSION

47 CFR Part 64

[CC Docket No. 94-129; FCC 03-42]

Implementation of the Subscriber Carrier Selection Changes Provisions of the Telecommunications Act of 1996, Policies and Rules Concerning Unauthorized Changes of Consumers' Long Distance Carriers

AGENCY: Federal Communications Commission.

ACTION: Clarification.

SUMMARY: In this document we clarify certain issues pertaining to the Third Order on Reconsideration and Second Further Notice of Proposed Rulemaking (Reconsideration Order), regarding Unauthorized Changes of Consumers' Long Distance Carriers. In the Reconsideration Order, we stated that, given the proliferation of customers that are now or may soon be served by LECs that also provide interexchange services, it was necessary to require verification of long distance carrier change requests that occur when a customer initiates a call to a LEC. We clarify here that such verification by a LEC is required only when the carrier change involves the LEC or an affiliate of the LEC. In-bound customer requests to change long distance carriers, made directly to a LEC, remain exempted in cases where the LEC or its long distance affiliate is not the subject of the long distance carrier change.

FOR FURTHER INFORMATION CONTACT: Nancy Stevenson, 202-418-7039, Consumer & Governmental Affairs Bureau.

SUPPLEMENTARY INFORMATION: This is a summary of the Commission's Order clarifying issues in the Third Order on Reconsideration and Second Further Notice of Proposed Rulemaking in CC Docket No. 94-129, FCC 03-42, released March 17, 2003 and published in the Federal Register on April 18, 2003 (68 FR 19152). The full text of this document is available on the Commission's website Electronic Comment Filing System and for public inspection during regular business hours in the FCC Reference Center, Room CY-A257, 445 12th Street, SW., Washington, DC 20554.

I. Synopsis of Clarifying Order

1. In this Order, we clarify certain issues pertaining to the Third Order on Reconsideration and Second Further Notice of Proposed Rulemaking (Reconsideration Order) in the above-captioned proceeding. In the Reconsideration Order, we addressed issues raised in petitions for reconsideration of a series of orders implementing section 258 of the Communications Act of 1934 (Act), as amended by the Telecommunications Act of 1996 (1996 Act). Section 258 makes it unlawful for any telecommunications carrier to “submit or execute a change in a subscriber's selection of a provider of telephone exchange service or telephone toll service, except in accordance with such verification procedures as the Commission shall prescribe.” Since the release of the Reconsideration Order, several parties have requested that the Commission clarify a portion of that order concerning the carrier change verification responsibilities of local exchange carriers (“LECs”).

2. Prior to the adoption of the Reconsideration Order, in the Second Report and Order the Commission found that all changes to a subscriber's preferred carrier, including local exchange, intraLATA toll, and interLATA toll services, must be authorized by the subscriber and verified in accordance with the Commission's procedures. In addition, the Commission found in the Second Report and Order that its rules concerning customer verification of preferred carrier change requests should apply to “in-bound” as well as “out-bound” calls, stating that “it serves the public interest to offer consumers who initiate calls to carriers the same protection under the verification rules as those consumers who are contacted by carriers.” However, the Commission at that time declined to require verification of long distance carrier changes in instances when a customer contacts a LEC directly to effect the change. The Commission noted that, under those circumstances, the LEC is not providing interexchange service to the subscriber.

3. In the Reconsideration Order, however, we recognized that, since the adoption of the Second Report and Order, “many LECs have become (or plan to become) long distance service providers.” We stated that, given the proliferation of customers that are now or may soon be served by LECs that also provide interexchange services, it was necessary to require verification of long distance carrier change requests that occur when a customer initiates a call to a LEC. The Commission stated that such verification was necessary in order to deter slamming and as such furthered the goals of section 258.

II. Discussion

4. BellSouth, Qwest, SBC Telecommunications, Inc. and Verizon (“Joint LECs”) seek clarification that the Commission, in the Reconsideration Order, “merely intended to confirm that customer calls to the LEC to make a carrier change benefiting the LEC or, more specifically, its long distance affiliates, must be verified pursuant to existing Commission verification rules.” The Joint LECs ask the Commission to clarify that the verification rules do not apply in situations when a subscriber asks a LEC to effect a change to their presubscribed carrier, and the new carrier is neither the LEC itself nor an affiliate of the LEC.

5. As noted previously, in the Second Report and Order, the Commission initially excluded from the verification rules requests for long distance carrier changes by customers that contact LECs directly, because “the LEC is not providing interexchange service to [the] subscriber.” However, in the Reconsideration Order, we stated that “[d]ue to the changes in the competitive landscape that have come to fruition since the adoption of the Second Report and Order, and based on our experiences therewith, we now find it necessary, as with other in-bound carrier change calls, to require verification of carrier change requests that occur when a customer initiates a call to a LEC.” We clarify here that such verification by a LEC is required only when the carrier change involves the LEC or an affiliate of the LEC. In-bound customer requests to change long distance carriers, made directly to a LEC, remain exempted in cases where the LEC or its long distance affiliate is not the subject of the long distance carrier change. We agree with the Joint LECs that the Reconsideration Order requires verifications of carrier changes involving the LEC or its affiliates. This is consistent with out statement in the Second Report and Order that our decision to apply the verification rules to certain inbound calls was especially necessary “as carriers begin combining services to market to consumers, such as intraLATA and interLATA toll services.”

III. Ordering Clauses

6. Pursuant to sections 1, 4(i), 258 and 303(r) of the Communications Act of 1934, as amended, 47 U.S.C. 151, 154(i), 258 and 303(r), this Order is adopted, and is effective as of its release on May 23, 2003.

List of Subjects in 47 CFR Part 64

Telephone.

Federal Communications Commission.
Marlene H. Dortch,
Secretary.

[FR Doc. 03-16845 Filed 7-3-03; 8:45 am]

BILLING CODE 6712-01-P